DEPARTMENT OF ENERGY

Federal Energy Regulatory Commission

[Project No. 15304-000]

Cat Creek Energy, LLC; Notice of Preliminary Permit Application Accepted for Filing and Soliciting Comments, Motions To Intervene, and Competing Applications

On February 16, 2023, Cat Creek Energy, LLC filed an application for a preliminary permit, pursuant to section 4(f) of the Federal Power Act, proposing to study the feasibility of the Corral Summit Pumped Storage Project (Corral Summit Project or project) to be located near Big Lost River, Custer County, Idaho. The sole purpose of a preliminary permit, if issued, is to grant the permit holder priority to file a license application during the permit term. A preliminary permit does not authorize the permit holder to perform any land-disturbing activities or otherwise enter upon lands or waters owned by others without the owners' express permission.

The proposed Corral Summit pumped storage hydro would use an existing reservoir for its lower reservoir and build a new upper reservoir approximately 600-feet higher to provide sufficient head for generation.

Two alternatives are being considered for the Corral Summit Project. Alternative 1 would consist of the following: (1) a 400-acre upper reservoir located approximately 1.2 miles west of the existing Mackay Reservoir on Federal lands belonging to the US Bureau of Land Management, with a total impoundment volume of 25,000 acre-feet; (2) the reservoir is formed by a 3.6-mile, long, 75-foot tall circular dam with new intake/outlet structures; (3) two steel pipeline penstocks, each approximately 3,700 foot long and a diameter of 16 feet connect the upper reservoir to a underground powerhouse; (4) the powerhouse would contain two vertical Francis adjustable speed or ternary design turbines and two 100 MW generating units, for a total installed capacity of 200 MW; (5) a 3.7-mile, 230-kV transmission line would connect the project to the existing 230-kV Bonneville Power Administration transmission line; and (6) appurtenant facilities.

Alternative 2 would consist of the same facilities described in alternative 1 except: (1) the upper reservoir would be located approximately 1.4 miles east of the existing Mackay Reservoir on State of Idaho land, and would be approximately 412 acres in size; (2) the circular dam surrounding the upper reservoir would be 3.2 miles long; (3) the two steel pipeline penstocks would be approximately 5,800-foot-long; and (4) the transmission line would be 2 miles in length and would also connect to the existing 230 kV Bonneville Power Administration transmission line.

The estimated annual generation of the Corral Summit Project would be 584 gigawatt-hours.

Applicant Contact: James T. Carkulis, Project Agent, Cat Creek Energy LLC, 1989 South I875 East, Gooding, ID 8330; email: jtc@ccewsrps.net; phone: (208) 336-1370.

FERC Contact: Golbahar Mirhosseini; email: golbahar.mirhosseini@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15304-000.

More information about this project, including a copy of the application, can be viewed or printed on the “eLibrary” link of Commission's website at http://www.ferc.gov/docs-filing/efiling.asp. Enter the docket number (P-15304) in the docket number field to access the document. For assistance, please contact FERC Online Support at FERCOnlineSupport@ferc.gov; call toll-free at (866) 208-3676; or, for TTY, contact (202) 502-8659.

Dated: July 5, 2023.
Kimberly D. Bose,
Secretary.

[FR Doc. 2023-14610 Filed 7-10-23; 8:45 am]

BILLING CODE 6717-01-P